DEPARTMENT OF COMMERCE

International Trade Administration

Initiation of Antidumping and Countervailing Duty Administrative Reviews and Request for Revocation in Part

AGENCY: Import Administration, International Trade Administration, Department of Commerce.

SUMMARY: The Department of Commerce (“the Department”) has received requests to conduct administrative reviews of various antidumping and countervailing duty orders and findings with May anniversary dates. In accordance with the Department's regulations, we are initiating those administrative reviews. The Department also received a timely request to revoke one antidumping duty order in part.

DATES: Effective Date: June 28, 2011.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with May anniversary dates. The Department also received a timely request to revoke in part the antidumping duty order on Ball Bearings and Parts Thereof from Japan for one exporter.

All deadlines for the submission of various types of information, certifications, or comments or actions by the Department discussed below refer to the number of calendar days from the applicable starting time.

Notice of No Sales

If a producer or exporter named in this notice of initiation had no exports, sales, or entries during the period of review (“POR”), it must notify the Department within 60 days of publication of this notice in the Federal Register. All submissions must be made in accordance with 19 CFR 351.303 and are subject to verification in accordance with section 782(i) of the Tariff Act of 1930, as amended (“Act”). Six copies of the submission should be submitted to the Assistant Secretary for Import Administration, International Trade Administration, Room 1870, U.S. Department of Commerce, 14th Street and Constitution Avenue, NW., Washington, DC 20230. Further, in accordance with 19 CFR 351.303(f)(3)(ii), a copy of each request must be served on every party on the Department's service list.

Respondent Selection

In the event the Department limits the number of respondents for individual examination for administrative reviews, the Department intends to select respondents based on U.S. Customs and Border Protection (“CBP”) data for U.S. imports during the POR. We intend to release the CBP data under Administrative Protective Order (“APO”) to all parties having an APO within seven days of publication of this initiation notice and to make our decision regarding respondent selection within 21 days of publication of this Federal Register notice. The Department invites comments regarding the CBP data and respondent selection within five days of placement of the CBP data on the record of the applicable review.

In the event the Department decides it is necessary to limit individual examination of respondents and conduct respondent selection under section 777A(c)(2) of the Act:

In general, the Department has found that determinations concerning whether particular companies should be “collapsed” (i.e., treated as a single entity for purposes of calculating antidumping duty rates) require a substantial amount of detailed information and analysis, which often require follow-up questions and analysis. Accordingly, the Department will not conduct collapsing analyses at the respondent selection phase of this review and will not collapse companies at the respondent selection phase unless there has been a determination to collapse certain companies in a previous segment of this antidumping proceeding (i.e., investigation, administrative review, new shipper review or changed circumstances review). For any company subject to this review, if the Department determined, or continued to treat, that company as collapsed with others, the Department will assume that such companies continue to operate in the same manner and will collapse them for respondent selection purposes. Otherwise, the Department will not-collapse companies for purposes of respondent selection. Parties are requested to (a) identify which companies subject to review previously were collapsed, and (b) provide a citation to the proceeding in which they were collapsed. Further, if companies are requested to complete the Quantity and Value Questionnaire for purposes of respondent selection, in general each company must report volume and value data separately for itself. Parties should not include data for any other party, even if they believe they should be treated as a single entity with that other party. If a company was collapsed with another company or companies in the most recently completed segment of this proceeding where the Department considered collapsing that entity, complete quantity and value data for that collapsed entity must be submitted.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2,1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently complete segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate-rate status unless they respond to all parts of the questionnaire as mandatory respondents.

Initiation of Reviews

In accordance with 19 CFR 351.221(c)(1)(i), we are initiating administrative reviews of the following antidumping and countervailing duty orders and findings. We intend to issue the final results of these reviews not later than May 31, 2012.

| Period to be reviewed
Antidumping Duty Proceedings
BELGIUM: Stainless Steel Plate in Coils A-423-808 | 5/1/10-4/30/11
Aperam Stainless Belgium N.V. (f.k.a. ArcelorMittal Stainless Belgium N.V.)
CANADA: Citric Acid and Certain Citrate Salts A-122-853 | 5/1/10-4/30/11
Jungbunzlauer Canada Inc.
FRANCE: Ball Bearings and Parts Thereof A-427-801 | 5/1/10-4/30/11
Audi AG
Bosch Rexroth SAS
Caterpillar Group Services S.A.
Caterpillar Materials Routiers S.A.S.
Caterpillar S.A.R.L.
Eurocopter SAS
Intertechnique SAS
Kongskilde Limited
Perkins Engines Company Limited
SKF France, S.A./SKF Aerospace France S.A.S.
SNECMA
SNR Roulements S.A./SNR Europe/NTN Corporation
Volkswagen AG | Volkswagen Zubehor GmbH
GERMANY: Ball Bearings and Parts Thereof A-428-801 | 5/1/10-4/30/11
Audi AG
Bayerische Motoren Werke AG
Bosch Rexroth AG
BSH Bosch und Siemens Hausgerate GmbH
Caterpillar S.A.R.L.
Kongskilde Limited
myonic GmbH
Robert Bosch GmbH
Robert Bosch GmbH Power Tools and Hagglunds Drives
Schaeffler KG
Schaeffler Technologies GmbH and Co. KG
SKF GmbH
Volkswagen AG
Volkswagen Zubehor GmbH
INDIA: Certain Welded Carbon Steel Standard Pipes and Tubes A-533-502 | 5/1/10-4/30/11
Arihant Domestic Appliances Ltd.
Good Luck Steel Tubes Ltd. and all affiliates
Good Luck Industries
Innoventive Industries Ltd.
Jindal Group and all affiliates
Jindal Industries Ltd.
Jindal Saw Ltd.
JindalSteel and Power Ltd.
JSL Ltd.
JSW steel Ltd.
Jotindra Steel and Tubes Ltd.
Lloyds Group and all affiliates
Lloyds Metals & Engineers Ltd.
Lloyds Steel Industries Ltd.
Welspun Group and all affiliates
Welspun Corp. Ltd.
Welspun Trading Ltd.
Welspun Steel Ltd.
Welspun Investments and Commercials Ltd.
ITALY: Ball Bearings and Parts Thereof A-475-801 | 5/1/10-4/30/11
Audi AG
Bosch Rexroth S.p.A.
Caterpillar Overseas S.A.R.L.
Caterpillar of Australia Pty. Ltd.
Caterpillar Group Services S.A.
Caterpillar Mexico, S.A. de C.V.
Caterpillar Americas C.V.
Eurocopter S.A.S.
Hagglunds Drives S.r.l.
Kongskilde Limited
Perkins Engines Company Ltd.
Schaeffler Italia SpA
The Schaeffler Group
Schaeffler Italia s.r.l, and WPB Water Pump Bearing GmbH & Co. KG
SKF Industrie S.p.A., and Somecat S.p.A.
SNECMA
Volkswagen AG
Volkswagen Zubehor GmbH
JAPAN: Ball Bearings and Parts Thereof A-588-804 | 5/1/10-4/30/11
Asahi Seiko Co., Ltd.
Aisin Seiki Co. Ltd.
Audi AG
Bosch Packaging Technology K.K.
Bosch Rexroth Corporation
Caterpillar Inc.
Caterpillar Japan Ltd.
Caterpillar Overseas S.A.R.L.
Caterpillar Group Services S.A.
Caterpillar Brazil Ltd.
Caterpillar Africa Pty. Ltd.
Caterpillar of Australia Pty. Ltd.
Caterpillar S.A.R.L.
Caterpillar Americas Mexico, S. de R.L. de C.V.
Caterpillar Logistics Services China Ltd.
Caterpillar Mexico, S.A. de C.V.
Glory Ltd.
Hagglunds Ltd.
Hino Motors Ltd.
JTEKT Corporation
Kongskilde Limited
Mazda Motor Corporation
Nachi-Fujikoshi Corporation
NSK Ltd.
NSK Corporation
NTN Corporation
Perkins Engines Company Limited
Sapporo Precision, Inc., and Tokyo Precision, Inc.
Volkswagen AG
Volkswagen Zubehor GmbH
Yamazaki Mazak Trading Corporation
REPUBLIC OF KOREA: Certain Polyester Staple Fiber A-580-839 | 5/1/10-4/30/11
Huvis Corporation
Woongjin Chemical Company, Ltd.
SOCIALIST REPUBLIC OF VIETNAM: Frozen Warmwater Shrimp A-552-802 | 2/1/10-1/31/11
Thong Thuan Company Limited/Thong Thuan Seafood Company Limited ³
TAIWAN: Certain Circular Welded Carbon Steel Pipe and Tubes A-583-008 | 5/1/10-4/30/11
E United Group and all affiliates
Yieh Corp.
Yieh Phui Enterprise Co., Ltd.
Yieh Hsing Enterprise Co., Ltd.
Chung Hung Steel Corp.
Far East Machinery Co. Ltd.
Kao Hsing Chang Iron & Steel Corp., also known as Kao Hsiung Chang Iron & Steel Corp.
Tension Steel Industries Co. Ltd.
TAIWAN: Polyester Staple Fiber A-583-833 | 5/1/10-4/30/11
Far Eastern New Century Corporation (formerly known as Far Eastern Textiles Co., Ltd.)
Nan Ya Plastics Corporation
THE PEOPLE'S REPUBLIC OF CHINA: Certain Oil Country Tubular Goods ⁴ A-570-943 | 11/17/09-4/30/11
Anhui Tianda Oil Pipe Co., Ltd.
Baoshan Iron & Steel Co., Inc.
Baosteel Group
Benxi Northern Steel Pipes Co., Ltd.
Cangzhou Huaye Metal Products Co., Ltd.
Cangzhou Qiancheng Steel Pipe Co.
Faray Petroleum Steel Pipe Co., Ltd.
Freet Petroleum Equipment Co., Ltd. of Shengli Oil Field, The Thermal Recovery Equipment, Zibo Branch
Freet Petroleum Equipment Group Co., Ltd.
Guangzhou Juyi Steel Pipes Co., Ltd.
Hebei Machinery Import & Export Co., Ltd.
Hebei Zhongyuan Steel Pipe Manufacturing Co., Ltd.
Hefei Zijin Steel Tube Manufacturing Co., Ltd.
Hengyang Steel Tube Group Int'l Trading Inc.
Hengyang Valin MPM Tube Co., Ltd.
Hengyang Valin Steel Tube Co., Ltd.
Huai'an Zhenda Steel Tube Manufacturing Co., Ltd.
Huludao City Steel Pipe Industrial Co., Ltd.
Huludao Steel Pipe Industrial Co., Ltd.
Jiangsu Changbao Precision Tube Co., Ltd.
Jiangsu Changbao Steel Tube Co., Ltd.
Jiangsu Chengde Steel Tube Share Co., Ltd.
Jiangsu Yulong Steel Pipe Co., Ltd.
Jiangyin Chuangzin Oil Pipe
Jiangyin City Changjiang Steel Pipe Co., Ltd.
Jiangyin City Seamless Steel Tube Factory
Jinan Meide Casting Co., Ltd.
Northern Tool Equipment Co., Ltd.
Shandong Dongbao Steel Pipe Co., Ltd.
Shandong Molong Group Co.
Shandong Molong Petroleum Machinery Co., Ltd.
Shengli Oil Field Freet Import & Export Co., Ltd.
Shengli Oil Field Freet Petroleum Equipment Co., Ltd.
Shengli Oil Field Freet Petroleum Steel Pipe Co., Ltd.
Shengli OilfField Highland Petroleum Equipment Co., Ltd.
Thermal Recovery Equipment Manufacturer of Shengli Oil Field Freet Petroleum Equipment Co., Ltd.
Tianjin Pipe (Group) Co., Ltd.
Tianjin Pipe International Economic & Trading Corp.
Tianjin Shuangjie Pipe Manufacturing Co., Ltd.
Tianjin Tiangang Special Petroleum Pipe Manufacturer Co., Ltd.
Wuxi Baoda Petroleum Special Pipe Manufacture Co., Ltd.
Wuxi Fastube Industry Co.
Wuxi Huayou Special Steel Co., Ltd.
Wuxi Seamless Oil Pipe Co., Ltd.
Wuxi Seamless Special Pipe Co., Ltd.
Wuxi Zhenda Special Steel Tube Manufacturing Co., Ltd.
Xi'An Meixinte Industrial & Trading Co., Ltd.
Xigang Seamless Steel Tube Co., Ltd.
Yangzhou Chengde Steel Tube Co., Ltd.
Yangzhou Lontrin Steel Tube Co., Ltd.
Yantai Yuanhua Steel Tubes Co., Ltd.
ZhangJiaGang ZhongYuan Pipe-Making Co.
Zhejiang Jianli Enterprise Co., Ltd.
THE PEOPLE'S REPUBLIC OF CHINA: Citric Acid and Certain Citrate Salts ⁵ A-570-937 | 5/1/10-4/30/11
Huangshi Xinghua Biochemical Co., Ltd.
RZBC Co., Ltd./RZBC Imp. & Exp. Co., Ltd./RZBC (Juxian) Co., Ltd.
THE PEOPLE'S REPUBLIC OF CHINA: Pure Magnesium ⁶ A-570-832 | 5/1/10-4/30/11
Tianjin Magnesium International, Ltd.
TURKEY: Certain Welded Carbon Steel Pipe and Tube A-489-501 | 5/1/10-4/30/11
Borusan Group and all affiliates
Borusan Mannesmann Boru Sanayi ve Ticaret A.S.
Borusan Birlesik Boru Fabrikalari San ve Tic.
Borusan Istikbal Ticaret T.A.S.
Boruson Holding A.S.
Boruson Gemlik Boru Tesisleri A.S.
Borusan Ihracat Ithalat ve Dagitim A.S.
Borusan Ithicat ve Dagitim A.S.
Tubeco Pipe and Steel Corporation
ERBOSAN Erciyas Boru Sanayi ve Ticaret A.S.
Toscelik Profil ve Sac Endustrisi A.S.
Toscelik Metal Ticaret A.S.
Tosyali Dis Ticaret A.S.
Yucel Group and all affiliates
Yucel Boru ve Profil Endustrisi A.S.
Yucelboru Ihracat Ithalat ve Pazarlama A.S.
Cayirova Boru Sanayi ve Ticaret A.S.
TURKEY: Light-Walled Rectangular Pipe and Tube A-489-815 | 5/1/10-4/30/11
Noksel Celik Boru Sanayi A.S.
UNITED KINGDOM: Ball Bearings and Parts Thereof A-412-801 | 5/1/10-4/30/11
Bayerische Motoren Werke AG
Bosch Rexroth Limited
Caterpillar S.A.R.L.
Caterpillar Group Services S.A.
Caterpillar of Australia Pty Ltd.
Caterpillar Overseas S.A.R.L.
Caterpillar Marine Power UK
NSK Bearings Europe Ltd.
NSK Europe Ltd.
Perkins Engines Company Ltd.
SKF (UK) Limited SNFA Operations
SKF UK Limited Stonehouse Operations
Countervailing Duty Proceedings
THE PEOPLE'S REPUBLIC OF CHINA: Citric Acid and Certain Citrate Salts C-570-938 | 1/1/10-12/31/10
Huangshi Xinghua Biochemical Co., Ltd.
RZBC Co., Ltd./RZBC Imp. & Exp. Co., Ltd./RZBC (Juxian) Co., Ltd.

Suspension Agreements

None.

³ This company was inadvertently omitted from the initiation notice that published on March 31, 2011 (76 FR 17825).

⁴ If one of the above-named companies does not qualify for a separate rate, all other exporters of Certain Oil Country Tubular Goods from the People's Republic of China (“PRC”) who have not qualified for a separate rate are deemed to be covered by this review as part of the single PRC entity of which the named exporters are a part.

⁵ If one of the above-named companies does not qualify for a separate rate, all other exporters of Citric Acid and Certain Citrate Salts from the PRC who have not qualified for a separate rate are deemed to be covered by this review as part of the single PRC entity of which the named exporters are a part.

⁶ If the above-named company does not qualify for a separate rate, all other exporters of Pure Magnesium from the PRC who have not qualified for a separate rate are deemed to be covered by this review as part of the single PRC entity of which the named exporters are a part.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia S.p.A. v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the POR.

Interested parties must submit applications for disclosure under administrative protective orders in accordance with 19 CFR 351.305. On January 22, 2008, the Department published Antidumping and Countervailing Duty Proceedings: Documents Submission Procedures; APO Procedures, 73 FR 3634 (January 22, 2008). Those procedures apply to administrative reviews included in this notice of initiation. Parties wishing to participate in any of these administrative reviews should ensure that they meet the requirements of these procedures (e.g., the filing of separate letters of appearance as discussed at 19 CFR 351.103(d)).

Any party submitting factual information in an antidumping duty or countervailing duty proceeding must certify to the accuracy and completeness of that information. See section 782(b) of the Act. Parties are hereby reminded that revised certification requirements are in effect for company/government officials as well as their representatives in all segments of any antidumping duty or countervailing duty proceedings initiated on or after March 14, 2011. See Certification of Factual Information to Import Administration During Antidumping and Countervailing Duty Proceedings: Interim Final Rule, 76 FR 7491 (February 10, 2011) (Interim Final Rule), amending 19 CFR 351.303(g)(1) and (2). The formats for the revised certifications are provided at the end of the Interim Final Rule. The Department intends to reject factual submissions in any proceeding segments initiated on or after March 14, 2011 if the submitting party does not comply with the revised certification requirements.

These initiations and this notice are in accordance with section 751(a) of the Act (19 U.S.C. 1675(a)), and 19 CFR 351.221(c)(1)(i).

Dated: June 22, 2011.
Christian Marsh,
Deputy Assistant Secretary for Antidumping and Countervailing Duty Operations.

[FR Doc. 2011-16216 Filed 6-27-11; 8:45 am]

BILLING CODE 3510-DS-P